OFFICE OF MANAGEMENT AND BUDGET

DEPARTMENT OF VETERANS AFFAIRS

Cost-Based and Interagency Billing Rates for Medical Care or Services Provided by the Department of Veterans Affairs

AGENCIES: Office of Management and Budget, Executive Office of the President and the Department of Veterans Affairs.

ACTION: Notice.

SUMMARY: This document provides cost-based and interagency billing rates for medical care or services provided by the Department of Veterans Affairs (VA):

(a) In error or on tentative eligibility;

(b) In a medical emergency;

(c) To pensioners of allied nations;

(d) For research purposes in circumstances under which VA medical care appropriation is to be reimbursed by VA research appropriation; and

(e) To beneficiaries of the Department of Defense or other Federal agencies, when the care or service provided is not covered by an applicable sharing agreement.

In addition, until such time as charges for outpatient dental care and prescription drugs are implemented under the provisions of 38 CFR 17.101, the applicable cost-based billing rates provided in this notice will be used for collection or recovery by VA for outpatient dental care and prescription drugs provided under circumstances covered by that section. This notice is issued jointly by the Office of Management and Budget and the Department of Veterans Affairs.

EFFECTIVE DATE: The rates set forth herein are effective January 7, 2004, and until further notice.

FOR FURTHER INFORMATION CONTACT: David Cleaver, Chief Business Office (168), Veterans Health Administration, Department of Veterans Affairs, 810 Vermont Avenue, NW., Washington, DC 20420, (202) 254-0361. (This is not a toll free number.)

SUPPLEMENTARY INFORMATION: VA's medical regulations at 38 CFR 17.102(h) set forth a methodology for computing rates for medical care or services provided by VA:

(a) In error or on tentative eligibility;

(b) In a medical emergency;

(c) To pensioners of allied nations;

(d) For research purposes in circumstances under which VA medical care appropriation is to be reimbursed by VA research appropriation; and

(e) To beneficiaries of the Department of Defense or other Federal agencies, when the care or service provided is not covered by an applicable sharing agreement.

Two sets of rates are obtained via application of this methodology: Cost-Based Rates, for use for purposes (a) through (d), above, and Interagency Rates, for use for purpose (e), above. Government employee retirement benefits and return on fixed assets are not included in the Interagency Rates, and the Interagency Rates are not broken down into three components (Physician; Ancillary; and Nursing, Room, and Board), but in all other respects the Interagency Rates are the same as the Cost-Based Rates.

When medical care or service is obtained at the expense of the Department of Veterans Affairs from a non-VA source under circumstances in which the Cost-Based or Interagency Rates would apply if the care or service had been provided by VA, then the charge for such care or service will be the actual amount paid by VA for that care or service.

Inpatient charges will be at the per diem rates shown for the type of bed section or discrete treatment unit providing the care. Prescription Filled charge in lieu of the Outpatient Visit rate will be charged when the patient receives no service other than the Pharmacy outpatient service. This charge applies whether the patient receives the prescription in person or by mail.

Current rates obtained via the above methodology are as follows:

| Cost-based rates | Interagency rates
A. Hospital Care, Rates Per Inpatient Day
General Medicine:
All Inclusive Rate | $1,815 | $1,668
Physician | 217 |
Ancillary | 473 |
Nursing, Room, and Board | 1,125 |
Neurology:
All Inclusive Rate | 2,289 | 2,098
Physician | 335 |
Ancillary | 604 |
Nursing, Room, and Board | 1,350 |
Rehabilitation Medicine:
All Inclusive Rate | 1,723 | 1,574
Physician | 196 |
Ancillary | 526 |
Nursing, Room, and Board | 1,001 |
Blind Rehabilitation:
All Inclusive Rate | 1,254 | 1,162
Physician | 101 |
Ancillary | 623 |
Nursing, Room, and Board | 530 |
Spinal Cord Injury:
All Inclusive Rate | 1,237 | 1,136
Physician | 153 |
Ancillary | 311 |
Nursing, Room, and Board | 773 |
Surgery:
All Inclusive Rate | 3,513 | 3,255
Physician | 387 |
Ancillary | 1,065 |
Nursing, Room, and Board | 2,061 |
General Psychiatry:
All Inclusive Rate | 971 | 888
Physician | 92 |
Ancillary | 153 |
Nursing, Room, and Board | 726 |
Substance Abuse (Alcohol and Drug Treatment):
All Inclusive Rate | 1,206 | 1,106
Physician | 115 |
Ancillary | 279 |
Nursing, Room, and Board | 812 |
Psychosocial Residential Rehabilitation Treatment Programs:
All Inclusive Rate | 276 | 252
Physician | 17 |
Ancillary | 29 |
Nursing, Room, and Board | 230 |
Intermediate Medicine:
All Inclusive Rate | 801 | 733
Physician | 39 |
Ancillary | 118 |
Nursing, Room, and Board | 644 |
B. Nursing Home Care, Rates Per Day
All Inclusive Rate | 451 | 411
Physician | 14 |
Ancillary | 61 |
Nursing, Room, and Board | 376 |
C. Outpatient Medical and Dental Treatment
Outpatient Visit (other than Emergency Dental) | 300 | 282
Emergency Dental Outpatient Visit | 185 | 167
D. Prescription Filled, Per Prescription | 45 | 45

Beginning on the effective date indicated herein, these rates supercede those established for the Department of Veterans Affairs by the Director of the Office of Management and Budget on November 1, 1999 (64 FR 58862).

Approved: September 17, 2003.
Anthony J. Principi,
Secretary, Department of Veterans Affairs.
Approved: December 30, 2003.
Joshua B. Bolten,
Director, Office of Management and Budget.

[FR Doc. 04-318 Filed 1-6-04; 8:45 am]

BILLING CODE 3110-01-P